DEPARTMENT OF STATE

[Public Notice: 12326]

Bureau of Political-Military Affairs, Directorate of Defense Trade Controls: Notifications to the Congress of Proposed Commercial Export Licenses

ACTION: Notice.

SUMMARY: The Directorate of Defense Trade Controls and the Department of State give notice that the attached Notifications of Proposed Commercial Export Licenses were submitted to the Congress on the dates indicated.

DATES: The dates of notification to Congress are as shown on each of the 20 Letters.

FOR FURTHER INFORMATION CONTACT: Ms. Paula C. Harrison, Directorate of Defense Trade Controls (DDTC), Department of State at (202) 663-3310; or access the DDTC website at https://www.pmddtc.state.gov/ddtc public and select “Contact DDTC,” then scroll down to “Contact the DDTC Response Team” and select “Email.” Please add this subject line to your message, “ATTN: Congressional Notification of Licenses.”

SUPPLEMENTARY INFORMATION: Section 36(f) of the Arms Export Control Act (22 U.S.C. 2776) requires that notifications to the Congress pursuant to sections 36(c) and 36(d) be published in the Federal Register in a timely manner.

The following comprise recent such notifications and are published to give notice to the public.

July 3, 2023

The Honorable Kevin McCarthy, Speaker of the House of Representatives.

Dear Mr. Speaker:

Pursuant to Section 36(c) of the Arms Export Control Act, please find enclosed a certification of a proposed license for the export of defense articles, including technical data, and defense services in the amount of $50,000,000 or more.

The transaction contained in the attached certification involves the export of defense articles, including technical data, and defense services to Taiwan, the Republic of Korea, Canada, and the UK to support a submarine combat management system.

The U.S. government is prepared to license the export of these items having taken into account political, military, economic, human rights, and arms control considerations.

More detailed information is contained in the formal certification which, though unclassified, contains business information submitted to the Department of State by the applicant, publication of which could cause competitive harm to the U.S. firm concerned.

Sincerely,

Philip G. Laidlaw,

Acting Assistant Secretary, Bureau of Legislative Affairs.

Enclosure: Transmittal No. DDTC 22-087.

July 11, 2023

The Honorable Kevin McCarthy, Speaker of the House of Representatives.

Dear Mr. Speaker:

Pursuant to Section 36(c) and 36(d) of the Arms Export Control Act, please find enclosed a certification of a proposed amendment for the export of defense articles, including technical data, and defense services in the amount of $100,000,000 or more and the manufacture of significant military equipment abroad.

The transaction contained in the attached certification involves the export of defense articles, including technical data, and defense services, to Australia, Belgium, Canada, Denmark, Germany, Greece, the Netherlands, Norway, Portugal, Spain, and Türkiye to support the designing, development, production, manufacturing, assembly, operation, repairing, testing, integration, maintenance, modification, and demonstration of a ship-based missile.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-062.

July 11, 2023

The Honorable Kevin McCarthy, Speaker of the House of Representatives.

Dear Mr. Speaker:

Pursuant to Section 36(c) of the Arms Export Control Act, please find enclosed a certification of a proposed license for the export of firearms abroad controlled under Category I of the U.S. Munitions List in the amount of $1,000,000 or more.

The transaction contained in the attached certification involves the export to Jordan of fully automatic rifles.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-084.

July 11, 2023

The Honorable Kevin McCarthy, Speaker of the House of Representatives.

Dear Mr. Speaker:

Pursuant to Section 36(c) of the Arms Export Control Act, please find enclosed a certification of a proposed license for the export of defense articles, including technical data and defense services, in the amount of $100,000,000 or more.

The transaction contained in the attached certification involves the export of defense articles, including technical data, and defense services to Japan to support the integration, configuration, operation, specifications, test reports, analysis, and maintenance of a long-range radar system.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-086.

July 11, 2023

The Honorable Kevin McCarthy, Speaker of the House of Representatives.

Dear Mr. Speaker:

Pursuant to Section 36(c) of the Arms Export Control Act, please find enclosed a certification of a proposed license amendment for the export of defense articles, including technical data, and defense services, in the amount of $100,000,000 or more.

The transaction contained in the attached certification involves the export of defense articles, including technical data, and defense services, to the UK to support the maintenance, repair, and modification of military cargo aircraft.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary of State, Bureau of Legislative Affairs.

Enclosure: Transmittal No. DDTC 23-015.

July 11, 2023

The Honorable Kevin McCarthy, Speaker of the House of Representatives.

Dear Mr. Speaker:

Pursuant to Section 36(c) of the Arms Export Control Act, please find enclosed a certification of a proposed license for the export of firearms, parts, and components controlled under Category I of the U.S. Munitions List in the amount of $1,000,000 or more.

The transaction contained in the attached certification involves the export of 5.56mm automatic rifles to Singapore.

The U.S. government is prepared to license the export of these items having considered political, military, economic, human rights, and arms control considerations.

More detailed information is contained in the formal certification which, though unclassified, contains business information submitted to the Department of State by the applicant, publication of which could cause competitive harm to the U.S. firm concerned.

Sincerely,

Naz Durakoğlu,

Assistant Secretary of State, Bureau of Legislative Affairs.

Enclosure: Transmittal No. DDTC 23-033.

July 11, 2023

The Honorable Kevin McCarthy, Speaker of the House of Representatives.

Dear Mr. Speaker:

Pursuant to Section 36(c) of the Arms Export Control Act, please find enclosed a certification of a proposed license for the export of firearms controlled under Category I of the U.S. Munitions List in the amount of $1,000,000 or more.

The transaction contained in the attached certification involves the export to Ukraine of 7.62mm machine guns.

The U.S. government is prepared to license the export of these items having considered political, military, economic, human rights, and arms control considerations.

More detailed information is contained in the formal certification which, though unclassified, contains business information submitted to the Department of State by the applicant, publication of which could cause competitive harm to the U.S. firm concerned.

Sincerely,

Naz Durakoğlu,

Assistant Secretary of State, Bureau of Legislative Affairs.

Enclosure: Transmittal No. DDTC 23-034.

July 18, 2023

The Honorable Kevin McCarthy, Speaker of the House of Representatives.

Dear Mr. Speaker:

Pursuant to Section 36(c) of the Arms Export Control Act, please find enclosed a certification of a proposed license for the export of defense articles, including technical data, and defense services in the amount of $50,000,000 or more.

The transaction contained in the attached certification involves the export of defense articles, including technical data, and defense services to Taiwan, Malaysia, “and” Greece in support of the procurement, installation, support services, training, and testing of a fire control radar weapon system.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 23-025.

July 20, 2023

The Honorable Kevin McCarthy, Speaker of the House of Representatives.

Dear Mr. Speaker:

Pursuant to Section 36(c) of the Arms Export Control Act, please find enclosed a certification of a proposed license amendment for the export of defense articles, including technical data, and defense services in the amount of $50,000,000 or more.

The transaction contained in the attached certification involves the export of defense articles, including technical data, and defense services to Australia, Saudi Arabia, and UAE to support the preparation, shipment, delivery, inspection, acceptance, testing, and maintenance of PATRIOT missiles.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-076.

July 28, 2023

The Honorable Kevin McCarthy, Speaker of the House of Representatives.

Dear Mr. Speaker:

Pursuant to Sections 36(c) and 36(d) of the Arms Export Control Act, please find enclosed a certification of a proposed license for the manufacture of significant military equipment abroad and the export of defense articles, including technical data, and defense services in the amount of $50,000,000 or more.

The transaction contained in the attached certification involves the export of defense articles, including technical data, and defense services to India to support the assembly, manufacture, and test of engines and engine hardware.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 23-032.

July 31, 2023

The Honorable Kevin McCarthy, Speaker of the House of Representatives.

Dear Mr. Speaker:

Pursuant to Sections 36(c) and 36(d) of the Arms Export Control Act, please find enclosed a certification of a proposed license amendment for the export of defense articles, including technical data, and defense services in the amount of $50,000,000 or more and the manufacture of significant military equipment abroad.

The transaction contained in the attached certification involves the export of defense articles, including technical data, and defense services to the Republic of Korea to support the manufacture, assembly, test maintenance, and repair of radios.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 23-035.

August 16, 2023

The Honorable Kevin McCarthy, Speaker of the House of Representatives.

Dear Mr. Speaker:

Pursuant to Section 36(c) of the Arms Export Control Act (AECA), please find enclosed a certification of a proposed license for the export of firearms, parts, and components controlled under Category I of the U.S. Munitions List in the amount of $1,000,000 or more.

The transaction contained in the attached certification involves the export of fully automatic rifles to Israel.

The U.S. government is prepared to license the export of these items having taken into account political, military, economic, human rights, and arms control considerations.

More detailed information is contained in the formal certification which, though unclassified, contains business information submitted to the Department of State by the applicant, publication of which could cause competitive harm to the U.S. firm concerned.

Sincerely,

Philip Laidlaw,

Acting Assistant Secretary, Bureau of Legislative Affairs.

Enclosure: Transmittal No. DDTC 22-051.

August 17, 2023

The Honorable Kevin McCarthy, Speaker of the House of Representatives.

Dear Mr. Speaker:

Pursuant to Section 36(c) of the Arms Export Control Act, please find enclosed a certification of a proposed license amendment for the export of defense articles, including technical data, and defense services in the amount of $50,000,000 or more.

The transaction contained in the attached certification involves the export of defense articles, including technical data, and defense services to France, Germany, the Netherlands and Switzerland to support the manufacture, production, test, inspection, modification, enhancement, rework, and repair of aircraft wing flaps.

The U.S. government is prepared to license the export of these items having taken into account political, military, economic, human rights, and arms control considerations.

More detailed information is contained in the formal certification which, though unclassified, contains business information submitted to the Department of State by the applicant, publication of which could cause competitive harm to the U.S. firm concerned.

Sincerely,

Philip Laidlaw,

Acting Assistant Secretary, Bureau of Legislative Affairs.

Enclosure: Transmittal No. DDTC 23-039.

September 8, 2023

The Honorable Kevin McCarthy, Speaker of the House of Representatives.

Dear Mr. Speaker:

Pursuant to Section 36(c) of the Arms Export Control Act, please find enclosed a certification of a proposed license for the export of firearms, parts, and components abroad controlled under Category I of the U.S. Munitions List in the amount of $1,000,000 or more.

The transaction contained in the attached certification involves the export to Mexico of M134D 7.62mm machineguns and associated parts.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary of State, Bureau of Legislative Affairs.

Enclosure: Transmittal No. DDTC 20-093.

September 8, 2023

The Honorable Kevin McCarthy, Speaker of the House of Representatives.

Dear Mr. Speaker:

Pursuant to Section 36(c) of the Arms Export Control Act, please find enclosed a certification of a proposed license for the export of defense articles, including technical data, and defense services in the amount of $50,000,000 or more.

The transaction contained in the attached certification involves the export of defense articles, including technical data, and defense services to Saudi Arabia, UK, and UAE to support the delivery, installation, training, operation, maintenance, repairs, upgrades, and testing of radars.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-077.

September 8, 2023

The Honorable Kevin McCarthy, Speaker of the House of Representatives.

Dear Mr. Speaker:

Pursuant to Section 36(c) of the Arms Export Control Act, please find enclosed a certification of a proposed license for the export of defense articles, including technical data, and defense services in the amount of $100,000,000 or more.

The transaction contained in the attached certification involves the export of defense articles, including technical data, and defense services to Australia to support the development and delivery of a submarine tactical control subsystem.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 23-028.

September 8, 2023

The Honorable Kevin McCarthy, Speaker of the House of Representatives.

Dear Mr. Speaker:

Pursuant to Section 36(c) of the Arms Export Control Act, please find enclosed a certification of a proposed license amendment for the export of defense articles, including technical data, and defense services in the amount of $100,000,000 or more.

The transaction contained in the attached certification involves the export of defense articles, including technical data, and defense services to Canada, Germany, Spain, and the UK related to the manufacture, overhaul, repair, modification, refurbishment, rework, inspection, quality assurance activities and testing of landing gear assemblies, sub-assemblies, parts, and components.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 23-036.

September 8, 2023

The Honorable Kevin McCarthy, Speaker of the House of Representatives.

Dear Mr. Speaker:

Pursuant to Section 36(c) of the Arms Export Control Act, please find enclosed a certification of a proposed license for the export of firearms, parts, and components controlled under Category I of the U.S. Munitions List in the amount of $1,000,000 or more.

The transaction contained in the attached certification involves the export to Ukraine of fully automatic rifles.

The U.S. government is prepared to license the export of these items having considered political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 23-046.

September 15, 2023

The Honorable Kevin McCarthy, Speaker of the House of Representatives.

Dear Mr. Speaker:

Pursuant to Section 36(c) of the Arms Export Control Act, please find enclosed a certification of a proposed license amendment for the export of defense articles, including technical data, and defense services, in the amount of $100,000,000 or more.

The transaction contained in the attached certification involves the export of defense articles, including technical data, and defense services, to Canada, Germany, Israel, and the UK to support software support and upgrades to simulation training system.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 23-043.

September 20, 2023

The Honorable Kevin McCarthy, Speaker of the House of Representatives.

Dear Mr. Speaker:

Pursuant to Section 36(c) of the Arms Export Control Act (AECA), please find enclosed a certification of a proposed license for the export of defense articles, including technical data, and defense services in the amount of $50,000,000 or more.

The transaction contained in the attached certification involves the export of defense articles, including technical data, and defense services to Kuwait, UAE, and the UK to support the marketing, sale, delivery, and sustainment activities of Kuwait Air Force cargo aircraft fleet, associated support equipment, and training systems.

The U.S. government is prepared to license the export of these items having taken into account political, military, economic, human rights, and arms control considerations.

More detailed information is contained in the formal certification which, though unclassified, contains business information submitted to the Department of State by the applicant, publication of which could cause competitive harm to the U.S. firm concerned.

Sincerely,

Naz Durakoğlu,

Assistant Secretary, Bureau of Legislative Affairs.

Enclosure: Transmittal No. DDTC 22-079.

Kevin E. Bryant,
Deputy Director, Office of Directives Management, U.S. Department of State.

[FR Doc. 2024-02810 Filed 2-9-24; 8:45 am]

BILLING CODE 4710-25-P